DEPARTMENT OF COMMERCE

International Trade Administration

[A-552-820]

Antidumping Duty Investigation of Circular Welded Carbon-Quality Steel Pipe From the Socialist Republic of Vietnam: Amended Affirmative Preliminary Determination

AGENCY: Enforcement and Compliance, International Trade Administration, Department of Commerce.

SUMMARY: The Department of Commerce (Department) is amending the preliminary determination of the antidumping duty (AD) investigation of circular welded carbon-quality steel pipe (CWP) from the Socialist Republic of Vietnam (Vietnam) to correct significant ministerial errors.

DATES: Effective July 15, 2016.

FOR FURTHER INFORMATION CONTACT: Nancy Decker or Andrew Huston, AD/CVD Operations, Office VII, Enforcement and Compliance, International Trade Administration, U.S. Department of Commerce, 14th Street and Constitution Avenue NW., Washington, DC 20230; telephone: (202) 482-0196 or (202) 482-4261, respectively.

SUPPLEMENTARY INFORMATION:

Background

On June 8, 2016, the Department published its affirmative preliminary determination that CWP from Vietnam is being, or is likely to be, sold in the United States at less than fair value, as provided by section 733 of the Tariff Act of 1930, as amended (the Act).¹ The Department disclosed the calculations performed on June 6, 2016. Therefore, the deadline for submitting ministerial error allegations under 19 CFR 351.224(c)(2) was June 13, 2016.

¹ See Circular Welded Carbon-Quality Steel Pipe From the Socialist Republic of Vietnam: Affirmative Preliminary Determination of Sales at Less Than Fair Value and Postponement of Final Determination, 81 FR 36884 (June 8, 2016) (Preliminary Determination).

The petitioners ² timely filed comments alleging significant ministerial errors in the margin calculated for Vietnam Haiphong Hongyuan Machinery Manufactory Co., Ltd. (Hongyuan).³ In addition, SeAH Steel VINA Corporation (SeAH) timely filed comments alleging ministerial errors in its margin calculation.⁴

² The petitioners are Bull Moose Tube Company; EXLTUBE; Wheatland Tube, a division of JMC Steel Group; and Western Tube and Conduit.

³ See the petitioners' June 13, 2016, letter.

⁴ See SeAH's June 13, 2016, letter.

Scope of the Investigation

For a full description of the scope of this investigation, see “Scope of Investigation” at Appendix II of the Preliminary Determination.

Analysis of Significant Ministerial Error Allegations

The Department will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” Further, a significant ministerial error is defined in 19 CFR 351.224(g) as a ministerial error, the correction of which, singly or in combination with other errors, would result in: (1) A change of at least five absolute percentage points in, but not less than 25 percent of, the weighted-average dumping margin calculated in the original (erroneous) preliminary determination; or (2) a difference between a weighted-average dumping margin of zero (or de minimis) and a weighted-average dumping margin of greater than de minimis, or vice versa.

In accordance with 19 CFR 351.224(e) and (g)(2), the Department is amending the Preliminary Determination to reflect the corrections of significant ministerial errors in Hongyuan's margin calculation. However, as the ministerial errors alleged by SeAH are not significant in accordance with 19 CFR 351.224(g), the Department has not analyzed SeAH's comments, and is not amending SeAH's margin calculation. As a result of amending Hongyuan' margin, the Department is also revising the margin for the separate rate company.⁵

⁵ See Memorandum to Gary Taverman, Associate Deputy Assistant Secretary for Antidumping and Countervailing Duty Operations, “Ministerial Error Memorandum for the Affirmative Preliminary Determination of the Antidumping Duty Investigation of Circular Welded Carbon-Quality Steel Pipe From the Socialist Republic of Vietnam,” dated concurrently with this notice, for the analysis performed (Ministerial Error Memorandum). This memorandum is on file electronically via Enforcement and Compliance's Antidumping and Countervailing Duty Centralized Electronic Service System (ACCESS). ACCESS is available to registered users at http://access.trade.gov, and is available to all parties in the Department's Central Records Unit in Room B8024 of the Department of Commerce building.

Ministerial Error Allegations

For a complete analysis of the ministerial error allegations, see the Ministerial Error Memorandum.⁶

⁶ Id.

Amended Preliminary Determination

We are correcting the preliminary dumping margin for Hongyuan. Consequently, we are also amending the preliminary separate rate for Hoa Phat Steel Pipe Co. (Hoa Phat). SeAH's preliminary dumping margin is unchanged.

Exporter | Producer | Weighted- average dumping margin (percent)
Vietnam Haiphong Hongyuan Machinery Manufactory Co., Ltd | Vietnam Haiphong Hongyuan Machinery Manufactory Co., Ltd | 2.32
Hoa Phat Steel Pipe Co | Hoa Phat Steel Pipe Co | 2.32
SeAH Steel VINA Corporation | SeAH Steel VINA Corporation | 0.00
Vietnam-Wide Entity |  | 113.18

Amended Cash Deposits and Suspension of Liquidation

The collection of cash deposits and suspension of liquidation will be revised according to the rates calculated in this amended preliminary determination. Because Hongyuan's and Hoa Phat's amended rates are now above de minimis, we will direct U.S. Customs and Border Protection (CBP) to suspend liquidation of entries of CWP from Vietnam produced, as described in the scope of the section, which were produced and exported by these companies entered, or withdrawn from warehouse, for consumption. Because the correction of the errors for Hongyuan effectively results in increased cash deposit rates for Hongyuan and Hoa Phat, the revised rates calculated for Hongyuan and Hoa Phat will be effective on the date of publication of this notice in the Federal Register. Parties will be notified of this determination, in accordance with sections 733(d) and (f) of the Act.

International Trade Commission Notification

In accordance with section 733(f) of the Act, we notified the International Trade Commission of our amended preliminary determination.

Notification to Interested Parties

The Department intends to disclose calculations performed in connection with this amended preliminary determination within five days of the date of publication of this notice in accordance with 19 CFR 351.224(b).

This amended preliminary determination is issued and published in accordance with sections 733(f) and 777(i)(1) of the Act and 19 CFR 351.224(e).

Dated: July 6, 2016.
Ronald K. Lorentzen,
Acting Assistant Secretary for Enforcement and Compliance.

[FR Doc. 2016-16806 Filed 7-14-16; 8:45 am]

BILLING CODE 3510-DS-P